DEPARTMENT OF AGRICULTURE

Food Safety and Inspection Service

[Docket No. FSIS-2015-0031]

Codex Alimentarius Commission: Meeting of the Codex Committee on Nutrition and Foods for Special Dietary Uses

AGENCY: Office of the Under Secretary for Food Safety, USDA.

ACTION: Notice of public meeting and request for comments.

SUMMARY: The Office of the Under Secretary for Food Safety, U.S. Department of Agriculture (USDA), and the Food and Drug Administration (FDA), Office of Nutrition, Labeling, and Dietary Supplements are sponsoring a public meeting on October 27, 2015. The purpose of the public meeting is to provide information and receive public comments on agenda items and draft United States (U.S.) positions to be discussed at the 37th Session of the Codex Committee on Nutrition and Foods for Special Dietary Uses (CCNFSDU) of the Codex Alimentarius Commission (CODEX). The Session will be held in Bad Soden am Taunus, Germany November 23-27, 2015. The Under Secretary for Food Safety and the FDA recognize the importance of providing interested parties the opportunity to obtain background information on the 37th Session of the CCNFSDU and to address items on the agenda.

DATES: The public meeting is scheduled for October 27, 2015 from 1:00-4:00 p.m.

ADDRESSES: The public meeting will take place at the Harvey Wiley Building, United States Food and Drug Administration (FDA), Center for Food Safety and Applied Nutrition (CFSAN), 5100 Paint Branch Parkway, Room 1A002, College Park, MD 20740.

Documents related to the 37th Session of the CCNFSDU will be accessible via the Internet at the following address: http://www.codexalimentarius.org/meetings-reports/en/.

Leila Beker, U.S. Delegate to the 37th Session of the CCNFSDU, invites U.S. interested parties to submit their comments electronically to the following email address: CCNFSDU@fda.hhs.gov.

Call-In Number

If you wish to participate in the public meeting for the 37th Session of the CCNFSDU by conference call, please use call-in number and participant code listed below:

Call-in Number: 1-866-650-8671

Participant Code: 7571329

Pre-Registration

To pre-register for this meeting, please email the information listed below to the following email address: CCNFSDU@fda.hhs.gov.

Your name

Organization

Mailing address

Phone number

Email address

For Further Information About the 37th Session of the CCNFSDU

Contact: Dr. Leila Beker, Biologist, Office of Food Safety Center for Food Safety and Applied Nutrition, U.S. Food and Drug Administration, 5100 Paint Branch Parkway (HFS-850), College Park, MD 20740, Phone: +1 (240) 402-1851, Fax: +1 (301) 436-2636, Email: leila.beker@cfsan.fda.gov.

For Further Information about the Public Meeting Contact: Doreen Chen-Moulec, U.S. Codex Office, 1400 Independence Avenue SW., Room 4861, Washington, DC 20250 Phone: (202) 205-7760, Fax: (202) 720-3157, Email: Doreen.Chen-Moulec@fsis.usda.gov.

SUPPLEMENTARY INFORMATION:

Background

Codex was established in 1963 by two United Nations organizations, the Food and Agriculture Organization and the World Health Organization. Through adoption of food standards, codes of practice, and other guidelines developed by its committees, and by promoting their implementation by governments, Codex seeks to protect the health of consumers and ensure that fair practices are used in trade.

The CCNFSDU is responsible for:

(a) Studying specific nutritional problems assigned to it by the Commission and advising the Commission on general nutrition issues;

(b) Drafting general provisions, as appropriate, concerning the nutritional aspects of all foods

(c) Developing standards, guidelines, or related texts for foods for special dietary uses, in cooperation with other committees where necessary

(d) Considering, amending if necessary, and endorsing provisions on nutritional aspects proposed for inclusion Codex standards, guidelines and related texts

Issues To Be Discussed at the Public Meeting

The following items on the Agenda for the 37th Session of the CCNFSDU will be discussed during the public meeting:

• Proposed Draft Additional or Revised Nutrient Reference Values for Labeling Purposes in the Guidelines on Nutrition Labeling (Vitamin A, D, E, Magnesium, Phosphorus, Chromium, Copper, Chloride and Iron)

• Review of the Standard for Follow-up Formula (Codex Stan 156-1987)

• Proposed Draft Definition on Biofortification

• Proposed Draft NRV-NCD for EPA and DHA long chain omega-3 fatty acids

• Discussion Paper on Claim for “Free” of Trans Fatty Acids

• Discussion paper on a standard for ready-to-use foods (RUF)

Each issue listed will be fully described in documents distributed, or to be distributed, by the Secretariat prior to the Meeting. Members of the public may access or request copies of these documents (see ADDRESSES).

Additional Public Notification

Public awareness of all segments of rulemaking and policy development is important. Consequently, FSIS will announce this Federal Register publication on-line through the FSIS Web page located at: http://www.fsis.usda.gov/federal-register.

FSIS also will make copies of this publication available through the FSIS Constituent Update, which is used to provide information regarding FSIS policies, procedures, regulations, Federal Register notices, FSIS public meetings, and other types of information that could affect or would be of interest to our constituents and stakeholders. The Update is available on the FSIS Web page. Through the Web page, FSIS is able to provide information to a much broader, more diverse audience. In addition, FSIS offers an email subscription service which provides automatic and customized access to selected food safety news and information. This service is available at: http://www.fsis.usda.gov/subscribe. Options range from recalls to export information, regulations, directives, and notices. Customers can add or delete subscriptions themselves, and have the option to password protect their accounts.

USDA Non-Discrimination Statement

No agency, officer, or employee of the USDA shall, on the grounds of race, color, national origin, religion, sex, gender identity, sexual orientation, disability, age, marital status, family/parental status, income derived from a public assistance program, or political beliefs, exclude from participation in, deny the benefits of, or subject to discrimination any person in the United States under any program or activity conducted by the USDA.

How To File a Complaint of Discrimination

To file a complaint of discrimination, complete the USDA Program Discrimination Complaint Form, which may be accessed online at http://www.ocio.usda.gov/sites/default/files/docs/2012/Complain_combined_6_8_12.pdf, or write a letter signed by you or your authorized representative.

Send your completed complaint form or letter to USDA by mail, fax, or email:

Mail

U.S. Department of Agriculture, Director, Office of Adjudication, 1400 Independence Avenue SW., Washington, DC 20250-9410, Fax: (202) 690-7442, Email: program.intake@usda.gov.

Persons with disabilities who require alternative means for communication (Braille, large print, audiotape, etc.), should contact USDA's TARGET Center at (202) 720-2600 (voice and TDD).

Done at Washington, DC, on: August 27, 2015.
Mary Frances Lowe,
U.S. Codex Manager.

[FR Doc. 2015-21636 Filed 8-31-15; 8:45 am]

BILLING CODE 3410-DM-P